DEPARTMENT OF HEALTH AND HUMAN SERVICES

National Institutes of Health

Center for Scientific Review; Amended Notice of Meeting

Notice is hereby given of a change in the meeting of the Center for Scientific Review Special Emphasis Panel, Fellowships: Sensory and Motor Neurosciences, Cognition and Perception, January 22, 2026, 09:30 a.m. to January 23, 2026, 07:00 p.m., National Institutes of Health, Rockledge II, 6701 Rockledge Drive, Bethesda, MD 20892 which was published in the Federal Register on November 25, 2025, 90 FR 53371, Doc No. 2025-20892.

This meeting is being amended to change the meeting from a 2-day to a 1-day meeting on January 22, 2026. The meeting is closed to the public.

Dated: January 15, 2026.
Sterlyn H. Gibson,
Program Specialist, Office of Federal Advisory Committee Policy.

[FR Doc. 2026-01029 Filed 1-20-26; 8:45 am]

BILLING CODE 4140-01-P